DEPARTMENT OF JUSTICE

Antitrust Division

Notice Pursuant to the National Cooperative Research and Production Act of 1993—American College of Osteopathic Emergency Physicians

Notice is hereby given that, on September 17, 2004, pursuant to section 6(a) of the National Cooperative Research and Production Act of 1993, 15 U.S.C. 4301 et seq. (“the Act”), the American College of Osteopathic Emergency Physicians (“ACOEP”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American College of Osteopathic Emergency Physicians, Chicago, IL. The nature and scope of ACOEP's standards development activities are: To develop, plan, establish, coordinate and publish voluntary consensus standards applicable to the fields of emergency medicine, emergency medical services, and toxicology. Specifically, ACOEP develops, plans, establishes, coordinates, and publishes voluntary consensus standards in the form of basic standards for residency training in emergency medicine, combined family practice/emergency medicine, and emergency medical services; and for subspecialty residency training in toxicology. ACOEP also evaluates osteopathic residency training and fellowship programs for conformance with the standards. Through its standards development activities, ACOEP seeks to ensure the highest quality of training and education in osteopathic emergency medicine. ACOEP's standards development activities are ongoing in nature, and existing standards may be updated and/or amended from time to time.

Dorothy B. Fountain,
Deputy Director of Operations, Antitrust Division.

[FR Doc. 04-25840 Filed 11-19-04; 8:45 am]

BILLING CODE 4410-11-M